DEPARTMENT OF THE INTERIOR

National Park Service

[NPS-WASO-NAGPRA-NPS0038512; PPWOCRADN0-PCU00RP14.R50000]

Notice of Inventory Completion: University of Nebraska State Museum, Lincoln, NE

AGENCY: National Park Service, Interior.

ACTION: Notice.

SUMMARY: In accordance with the Native American Graves Protection and Repatriation Act (NAGPRA), the University of Nebraska State Museum has completed an inventory of human remains and has determined that there is a cultural affiliation between the human remains and Indian Tribes or Native Hawaiian organizations in this notice.

DATES: Repatriation of the human remains in this notice may occur on or after September 20, 2024.

ADDRESSES: Taylor Ronquillo, University of Nebraska State Museum, 645 N 14th Street, Lincoln, NE 68588, telephone (402) 472-6592, email Tronquillo2@unl.edu.

SUPPLEMENTARY INFORMATION: This notice is published as part of the National Park Service's administrative responsibilities under NAGPRA. The determinations in this notice are the sole responsibility of the University of Nebraska State Museum, and additional information on the determinations in this notice, including the results of the consultation, can be found in the inventory or related records. The National Park Service is not responsible for the determinations in this notice.

Abstract of Information Available

Based on the information available, human remains representing at least, 14 individuals from four unique sites have been reasonably identified. No associated funerary objects are present. The individuals per site are as follows:

1. Lyon County, IA. One individual was excavated by Roye Lindsay of the UNL Department of Anthropology in connection with a 1970 Lindsey and Tom Thiessen (National Park Service), Canton Reservoir, Big Sioux Survey, 1970.

2. Fairmont Park, Council Bluffs. Nine individuals from an excavation involving Robert Gilder. No additional information is available.

3. East Nishnabota River, IA. Three individuals were donated to UNSM Vertebrate Paleontology Division by D. A Easterly on November 8, 2021, and transferred to the Anthropology Division on November 23, 2021. They were found by McClernon Brothers in 2017, eroding from the riverbank.

4. Crescent, IA. One individual was donated by Robert Gilder with no other information provided.

Cultural Affiliation

Based on the information available and the results of the consultation, cultural affiliation is reasonably identified by the geographical location or acquisition history of the human remains and associated funerary objects described in this notice.

Determinations

The University of Nebraska State Museum has determined that:

• The human remains described in this notice represent the physical remains of 14 individuals of Native American ancestry.

• There is a reasonable connection between the human remains and associated funerary objects described in this notice and the Omaha Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 20, 2024. If competing requests for repatriation are received, the University of Nebraska State Museum must determine the most appropriate requestor prior to repatriation. Requests for joint repatriation of the human remains and associated funerary objects are considered a single request and not competing requests. The University of Nebraska State Museum is responsible for sending a copy of this notice to the Indian Tribes and Native Hawaiian organizations identified in this notice.

Authority: Native American Graves Protection and Repatriation Act, 25 U.S.C. 3003, and the implementing regulations, 43 CFR 10.10.

Dated: August 7, 2024.
Melanie O'Brien,
Manager, National NAGPRA Program.

[FR Doc. 2024-18670 Filed 8-20-24; 8:45 am]

BILLING CODE 4312-52-P